DEPARTMENT OF TRANSPORTATION

Federal Aviation Administration

Notice of Intent To Request Revision From the Office of Management and Budget of a Currently Approved Information Collection Activity, Certification Procedures for Products and Parts

AGENCY: Federal Aviation Administration (FAA), DOT.

ACTION: Notice and request for comments.

SUMMARY: The FAA invites public comments about our intention to request the Office of Management and Budget (OMB) to approve a current information collection. The information collected is used to determine compliance and applicant eligibility.

DATES: Please submit comments by August 14, 2007.

FOR FURTHER INFORMATION CONTACT: Carla Mauney on (202) 267-9895, or by e-mail at: Carla.Mauney@faa.gov.

SUPPLEMENTARY INFORMATION:

Federal Aviation Administration (FAA)

Title: Certification procedures for products and parts.

Type of Request: Revision of an approved collection.

OMB Control Number: 2120-0018.

Forms(s): 8110-12, 8130-1, 8130-3, 8130-6, 8130-9, 8130-12.

Affected Public: A total of 5100 respondents.

Frequency: The information is collected on occasion.

Estimated Average Burden per Response: Approximately 8.6 hours per response.

Estimated Annual Burden Hours: An estimated 44,101 hours annually.

Abstract: 14 CFR part 21 prescribes certification standards for aircraft, aircraft engines, propellers, products, and parts. The information collected is used to determine compliance and applicant eligibility. The respondents are aircraft parts designers, manufacturers, and aircraft owners.

ADDRESSES: Send comments to the FAA at the following address: Mr. Carla Mauney, Room 712, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on June 8, 2007.
Carla Mauney,
FAA Information Collection Clearance Officer, Strategy and Investment Analysis Division, AIO-20.

[FR Doc. 07-2942 Filed 6-11-07; 8:45 am]

BILLING CODE 4910-13-M